DEPARTMENT OF ENERGY

Federal Energy Regulatory Commission

Combined Notice of Filings #1

Take notice that the Commission received the following exempt wholesale generator filings:

Docket Numbers: EG24-295-000.

Applicants: Caballero CA Storage, LLC.

Description: Caballero CA Storage, LLC submits Notice of Self-Certification of Exempt Wholesale Generator Status.

Filed Date: 9/23/24.

Accession Number: 20240923-5064.

Comment Date: 5 p.m. ET 10/15/24.

Take notice that the Commission received the following Complaints and Compliance filings in EL Dockets:

Docket Numbers: EL24-140-000.

Applicants: Basin Electric Power Cooperative.

Description: Petition for Declaratory Order of Basin Electric Power Cooperative.

Filed Date: 9/17/24.

Accession Number: 20240917-5174.

Comment Date: 5 p.m. ET 10/17/24.

Docket Numbers: EL24-141-000.

Applicants: Big Shoulders Storage LLC v. PJM Interconnection, L.L.C.

Description: Complaint of Big Shoulders Storage LLC v. PJM Interconnection, L.L.C.

Filed Date: 9/20/24.

Accession Number: 20240920-5106.

Comment Date: 5 p.m. ET 10/10/24.

Take notice that the Commission received the following electric rate filings:

Docket Numbers: ER24-720-001; ER24-719-001.

Applicants: San Juan Solar 1, LLC, SJS 1 Storage, LLC.

Description: Notice of Change in Status of SJS 1 Storage, LLC, et al.

Filed Date: 9/20/24.

Accession Number: 20240920-5196.

Comment Date: 5 p.m. ET 10/11/24.

Docket Numbers: ER24-1658-002.

Applicants: Southwest Power Pool, Inc.

Description: Tariff Amendment: Deficiency Response—Submission of Tariff to Establish Markets+ to be effective 12/31/9998.

Filed Date: 9/20/24.

Accession Number: 20240920-5182.

Comment Date: 5 p.m. ET 10/11/24.

Docket Numbers: ER24-2017-001.

Applicants: PacifiCorp.

Description: Compliance filing: Suppemental Order No. 2023/2023-A Compliance Filing to be effective 11/2/2024.

Filed Date: 9/23/24.

Accession Number: 20240923-5063.

Comment Date: 5 p.m. ET 10/15/24.

Docket Numbers: ER24-3090-000.

Applicants: EF Kenilworth LLC.

Description: Request for Limited Waiver and Expedited Consideration of EF Kenilworth LLC.

Filed Date: 9/19/24.

Accession Number: 20240919-5244.

Comment Date: 5 p.m. ET 10/10/24.

Docket Numbers: ER24-3091-000.

Applicants: PJM Interconnection, L.L.C.

Description: 205(d) Rate Filing: Original WMPA Service Agreement No. 7371, AG1-559 to be effective 8/23/2024.

Filed Date: 9/23/24.

Accession Number: 20240923-5127.

Comment Date: 5 p.m. ET 10/15/24.

Docket Numbers: ER24-3092-000.

Applicants: Basin Electric Power Cooperative.

Description: Tariff Amendment: Basin Electric Notice of Cancellation of Service Agreements 60-65 to be effective 12/1/2024.

Filed Date: 9/23/24.

Accession Number: 20240923-5129.

Comment Date: 5 p.m. ET 10/15/24.

Docket Numbers: ER24-3093-000.

Applicants: PJM Interconnection, L.L.C.

Description: 205(d) Rate Filing: Amended WMPA, Service Agreement No. 6470; AG1-198 to be effective 11/23/2024.

Filed Date: 9/23/24.

Accession Number: 20240923-5133.

Comment Date: 5 p.m. ET 10/15/24.

Docket Numbers: ER24-3094-000.

Applicants: PJM Interconnection, L.L.C.

Description: 205(d) Rate Filing: Original GIA, Service Agreement No. 7349; AF1-084 to be effective 8/22/2024.

Filed Date: 9/23/24.

Accession Number: 20240923-5154.

Comment Date: 5 p.m. ET 10/15/24.

The filings are accessible in the Commission's eLibrary system (https://elibrary.bferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 23, 2024.
Debbie-Anne A. Reese,
Acting Secretary.

[FR Doc. 2024-22221 Filed 9-26-24; 8:45 am]

BILLING CODE 6717-01-P